Title 3—

The President

Proclamation 9333 of September 30, 2015

To Modify Duty-Free Treatment Under the Generalized System of Preferences and for Other Purposes

By the President of the United States of America

A Proclamation

1. Pursuant to sections 501 and 503(a)(1)(B) of the Trade Act of 1974, as amended (the “1974 Act”) (19 U.S.C. 2461 and 2463(a)(1)(B)), the President may designate certain articles as eligible for preferential tariff treatment under the Generalized System of Preferences (GSP) when imported from a least-developed beneficiary developing country if, after receiving the advice of the United States International Trade Commission (the “Commission”), the President determines that such articles are not import-sensitive in the context of imports from least-developed beneficiary developing countries.

2. Pursuant to sections 501, 503(a)(1)(B), and 503(b)(5) of the 1974 Act, as amended (19 U.S.C. 2461, 2463(a)(1)(B), and 2463(b)(5)), and after receiving advice from the Commission in accordance with section 503(e) of the 1974 Act (19 U.S.C. 2463(e)), I have determined to designate certain articles as eligible articles when imported from a least-developed beneficiary developing country.

3. Section 503(c)(2)(C) of the 1974 Act (19 U.S.C. 2463(c)(2)(C)) provides that a country that is no longer treated as a beneficiary developing country with respect to an eligible article may be redesignated as a beneficiary developing country with respect to such article, subject to the considerations set forth in sections 501 and 502 of the 1974 Act (19 U.S.C. 2461 and 2462), if imports of such article from such country did not exceed the competitive need limitations in section 503(c)(2)(A) of the 1974 Act (19 U.S.C. 2463(c)(2)(A)) during the preceding calendar year.

4. Pursuant to section 503(c)(2)(C) of the 1974 Act, and having taken into account the considerations set forth in sections 501 and 502 of the 1974 Act, I have determined to redesignate certain countries as beneficiary developing countries with respect to certain eligible articles that previously had been imported in quantities exceeding the competitive need limitations of section 503(c)(2)(A) of the 1974 Act.

5. Section 503(d)(4)(B)(ii) of the 1974 Act (19 U.S.C. 2463(d)(4)(B)(ii)) provides that the President should revoke any waiver of the application of the competitive need limitations that has been in effect with respect to an article for 5 years or more if the beneficiary developing country has exported to the United States during the preceding calendar year an amount that exceeds the quantity set forth in section 503(d)(4)(B)(ii)(I) or section 503(d)(4)(B)(ii)(II) of the 1974 Act (19 U.S.C. 2463(d)(4)(B)(ii)(I) and 19 U.S.C. 2463(d)(4)(B)(ii)(II)).

6. Pursuant to section 503(d)(4)(B)(ii) of the 1974 Act, I have determined that in 2014 certain beneficiary developing countries exported eligible articles for which a waiver has been in effect for 5 years or more in quantities exceeding the applicable limitation set forth in section 503(d)(4)(B)(ii)(I) or section 503(d)(4)(B)(ii)(II) of the 1974 Act, and I therefore revoke said waivers.

7. Section 503(c)(2)(F)(i) of the 1974 Act (19 U.S.C. 2463(c)(2)(F)(i)) provides that the President may disregard the competitive need limitation provided in section 503(c)(2)(A)(i)(II) of the 1974 Act (19 U.S.C. 2463(c)(2)(A)(i)(II)) with respect to any eligible article from any beneficiary developing country, if the aggregate appraised value of the imports of such article into the United States during the preceding calendar year does not exceed an amount set forth in section 503(c)(2)(F)(ii) of the 1974 Act (19 U.S.C. 2463(c)(2)(F)(ii)).

8. Pursuant to section 503(c)(2)(F)(i) of the 1974 Act, I have determined that the competitive need limitation provided in section 503(c)(2)(A)(i)(II) of the 1974 Act should be disregarded with respect to certain eligible articles from certain beneficiary developing countries.

9. Section 503(d)(1) of the 1974 Act (19 U.S.C. 2463(d)(1)) provides that the President may waive the application of the competitive need limitations in section 503(c)(2) of the 1974 Act with respect to any eligible article from any beneficiary developing country if certain conditions are met.

10. Pursuant to section 503(d)(1) of the 1974 Act, I have received the advice of the Commission on whether any industry in the United States is likely to be adversely affected by waivers of the competitive need limitations provided in section 503(c)(2) of the 1974 Act, and I have determined, based on that advice and on the considerations described in sections 501 and 502(c) of the 1974 Act (19 U.S.C. 2461 and 2462(c)) and after giving great weight to the considerations in section 503(d)(2) of the 1974 Act (19 U.S.C. 2463(d)(2)), that such waivers are in the national economic interest of the United States. Accordingly, I have determined that the competitive need limitations of section 503(c)(2) of the 1974 Act should be waived with respect to certain eligible articles from certain beneficiary developing countries.

11. Section 502(e) of the 1974 Act (19 U.S.C. 2462(e)) provides that the President shall terminate the designation of a country as a beneficiary developing country if the President determines that such country has become a “high income” country as defined by the official statistics of the International Bank for Reconstruction and Development. Termination is effective on January 1 of the second year following the year in which such determination is made.

12. Pursuant to section 502(e) of the 1974 Act, I have determined that Seychelles, Uruguay, and Venezuela have become “high income” countries. Accordingly, I am terminating the designation of these countries as beneficiary developing countries for purposes of the GSP, effective January 1, 2017, and I will so notify the Congress under section 502(f) of the 1974 Act (19 U.S.C. 2462(f)).

13. Section 506A(a)(1) of the 1974 Act (19 U.S.C. 2466a(a)(1)) authorizes the President to designate a country listed in section 107 of the African Growth and Opportunity Act (AGOA) (19 U.S.C. 3706) as a beneficiary sub-Saharan African country eligible for the benefits described in section 506A(b) of the 1974 Act (19 U.S.C. 2466a(b)), if the President determines that the country meets the eligibility requirements set forth in section 104 of the AGOA (19 U.S.C. 3703) and the eligibility criteria set forth in section 502 of the 1974 Act, subject to the authority granted to the President under subsections (a), (d), and (e) of section 502 of the 1974 Act.

14. Pursuant to section 502(e) of the 1974 Act, I have determined that Seychelles has become a “high income” country and its designation as a beneficiary sub-Saharan African country is no longer within the authority granted to the President under section 502 of the 1974 Act. Accordingly, pursuant to section 506A(a)(1) of the 1974 Act (19 U.S.C. 2466a(a)(1)), I have determined that Seychelles is no longer eligible for benefits as a beneficiary sub-Saharan African country for the purpose of section 506A of the 1974 Act, effective January 1, 2017.

15. Section 604 of the 1974 Act (19 U.S.C. 2483) authorizes the President to embody in the Harmonized Tariff Schedule of the United States (HTS) the substance of the relevant provisions of that Act, and of other Acts affecting import treatment, and actions thereunder, including removal, modification, continuance, or imposition of any rate of duty or other import restriction.

16. The short form name of “Macedonia, Former Yugoslav Republic of” has been changed to “Macedonia,” and I have determined that general note 4(a) to the HTS should be modified to reflect this change.

NOW, THEREFORE, I, BARACK OBAMA, President of the United States of America, by virtue of the authority vested in me by the Constitution and the laws of the United States of America, including but not limited to title V and section 604 of the 1974 Act, do proclaim that:

(1) In order to designate certain articles as eligible articles only when imported from a least-developed beneficiary developing country for purposes of the GSP, the Rates of Duty 1-Special subcolumn for the corresponding HTS subheadings is modified as set forth in section A of Annex I to this proclamation.

(2) In order to redesignate certain articles as eligible articles for purposes of the GSP, the Rates of Duty 1-Special subcolumn for the corresponding HTS subheadings and general note 4(d) to the HTS are modified as set forth in section B of Annex I to this proclamation.

(3) In order to provide that one or more countries should no longer be treated as beneficiary developing countries with respect to one or more eligible articles for purposes of the GSP, the Rates of Duty 1-Special subcolumn for the corresponding HTS subheadings and general note 4(d) to the HTS are modified as set forth in section C of Annex I to this proclamation.

(4) In order to reflect the change in the name of the Former Yugoslav Republic of Macedonia, general note 4(a) to the HTS is modified as provided in section D of Annex I to this proclamation.

(5) The modifications to the HTS set forth in Annex I to this proclamation shall be effective with respect to articles entered, or withdrawn from warehouse for consumption, on or after the dates set forth in the relevant sections of Annex I.

(6) The competitive need limitation provided in section 503(c)(2)(A)(i)(II) of the 1974 Act is disregarded with respect to the eligible articles in the HTS subheadings and to the beneficiary developing countries listed in Annex II to this proclamation, effective October 1, 2015.

(7) A waiver of the application of section 503(c)(2) of the 1974 Act shall apply to the articles in the HTS subheadings and to the beneficiary developing countries set forth in Annex III to this proclamation, effective October 1, 2015.

(8) The designation of Seychelles as a beneficiary developing country for purposes of the GSP is terminated, effective on January 1, 2017.

(9) In order to reflect this termination in the HTS, general note 4(a) to the HTS is modified by deleting “Seychelles” from the list of independent countries, effective with respect to articles entered, or withdrawn from warehouse for consumption, on or after January 1, 2017.

(10) The designation of Seychelles as a beneficiary sub-Saharan African country for purposes of the AGOA is terminated, effective on January 1, 2017.

(11) In order to reflect this termination in the HTS, general note 16(a) to the HTS is modified by deleting “Republic of Seychelles” from the list of beneficiary sub-Saharan African countries, effective with respect to articles entered, or withdrawn from warehouse for consumption, on or after January 1, 2017.

(12) The designation of Uruguay as a beneficiary developing country for purposes of the GSP is terminated, effective on January 1, 2017.

(13) In order to reflect this termination in the HTS, general note 4(a) to the HTS is modified by deleting “Uruguay” from the list of independent countries, effective with respect to articles entered, or withdrawn from warehouse for consumption, on or after January 1, 2017.

(14) The designation of Venezuela as a beneficiary developing country for purposes of the GSP is terminated, effective on January 1, 2017.

(15) In order to reflect this termination in the HTS, general note 4(a) to the HTS is modified by deleting “Venezuela” from the list of independent countries, effective with respect to articles entered, or withdrawn from warehouse for consumption, on or after January 1, 2017. In addition, the Rates of Duty 1-Special subcolumn for the corresponding HTS subheadings and general note 4(d) to the HTS are modified as set forth in section E of Annex I to this proclamation, effective on such date.

(16) Any provisions of previous proclamations and Executive Orders that are inconsistent with the actions taken in this proclamation are superseded to the extent of such inconsistency.

IN WITNESS WHEREOF, I have hereunto set my hand this thirtieth day of September, in the year of our Lord two thousand fifteen, and of the Independence of the United States of America the two hundred and fortieth.

Billing code 3295-F6-P

[FR Doc. 2015-25468

Filed 10-2-15; 11:15 am]

Billing code 7020-02-C